DEPARTMENT OF THE INTERIOR

Fish and Wildlife Service

Information Collection Renewal to Be Sent to the Office of Management and Budget (OMB) for Approval Under the Paperwork Reduction Act; 1018-0113; Grants Program Authorized by the Neotropical Migratory Bird Conservation Act (NMBCA)

AGENCY: Fish and Wildlife Service, Interior.

ACTION: Notice; request for comments.

SUMMARY: We (Fish and Wildlife Service, Service) plan to send a request to OMB to renew approval for the collection of information described below under the provisions of the Paperwork Reduction Act of 1995. We use the information collected to conduct our NMBCA grants program in the manner prescribed by that Act. We also use the information to comply with Federal reporting requirements for grants awarded under the program.

DATES: You must submit comments on or before September 27, 2005.

ADDRESSES: Send your comments on the information collection to Hope Grey, Information Collection Clearance Officer, Fish and Wildlife Service, MS 222-ARLSQ, 4401 N. Fairfax Drive, Arlington, VA 22203 (mail); hope_grey@fws.gov (e-mail); or (703) 358-2269 (fax).

FOR FURTHER INFORMATION CONTACT: To request a copy of the information collection requirements or explanatory information, contact Hope Grey, Information Collection Clearance Officer, at the above addresses or by telephone at (703) 358-2482.

SUPPLEMENTARY INFORMATION: The OMB regulations at 5 CFR part 1320, which implement provisions of the Paperwork Reduction Act of 1995 (44 U.S.C 3501 et seq.), require that interested members of the public and affected agencies have an opportunity to comment on information collection and recordkeeping activities (see 5 CFR 1320.8(d)). We will ask OMB to renew approval of the collection of information for the NMBCA grants program. The current OMB control number for this collection of information is 1018-0113, which expires on November 30, 2005. We will request a 3-year term of approval for this information collection activity. Federal agencies may not conduct or sponsor and a person is not required to respond to a collection of information unless it displays a currently valid OMB control number.

The purposes of NMBCA are (1) to perpetuate healthy populations of neotropical migratory birds; (2) to assist in the conservation of neotropical migratory birds by supporting conservation initiatives in the United States, Latin America, and the Caribbean; and (3) to provide financial resources and to foster international cooperation for those initiatives. Principal conservation actions supported by NMBCA are protection and management of neotropical migratory bird populations; maintenance, management, protection, and restoration of neotropical migratory bird habitat; research and monitoring; law enforcement; and community outreach and education.

Competing for grant funds involves applications from partnerships that describe in substantial detail project locations, project resources, future benefits, and other characteristics, to meet the standards established by the Fish and Wildlife Service and the requirements of NMBCA. The information collection for this program is part of a system of records covered by the Privacy Act (5 U.S.C. 552(a)).

Materials that describe the program and assist applicants in formulating project proposals are available on our Web site at http://birdhabitat.fws.gov. Persons who do not have access to the Web site may obtain instructional materials by mail. There has been little change in the scope and general nature of these instructions since OMB first approved the information collection in 2002. Instructions assist applicants in formulating detailed project proposals for consideration by a panel of reviewers from the Fish and Wildlife Service. These instructional materials are the basis for this information collection request. Notices of funding availability are posted annually on the Grants.gov Web site (http://www.grants.gov) as well as in the Catalog of Federal Domestic Assistance. We use information collected under this program to respond to such needs as audits, program planning and management, program evaluation, Government Performance and Results Act reporting, Standard Form 424 (Application For Federal Assistance), assistance awards, budget reports and justifications, public and private requests for information, data provided to other programs for databases on similar programs, congressional inquiries, and reports required by NMBCA.

If the information were not collected, we would have to eliminate the program because it would not be possible to determine eligibility and the relative worth of the proposed projects. Reducing the frequency of collection would only reduce the frequency of grant opportunities as the information collected is unique to each project proposal. Discontinuation of the program is not a viable option.

Title: Grants Programs Authorized by the Neotropical Migratory Bird Conservation Act.

OMB Control Number: 1018-0113.

Form Number(s): None.

Frequency of Collection: Occasional. This grants program has one project proposal submission per year. Annual reports are due 90 days after the anniversary date of the grant agreement. Final reports are due 90 days after the end of the project period. The project period is up to 2 years.

Description of Respondents: (1) An individual, corporation, partnership, trust, association, or other private entity; (2) an officer, employee, agent, department, or instrumentality of the Federal Government, of any State, municipality, or political subdivision of a State, or of any foreign government: (3) a State, municipality, or political subdivision of a State; (4) any other entity subject to the jurisdiction of the United States or of any foreign country; and (5) an international organization.

Total Annual Burden Hours: 4,000. We estimate 100 hours for each grant proposal.

Number of Respondents: Approximately 40 from the United States. We anticipate funding approximately one quarter of the projects submitted.

We queried five recipients of NMBCA grants with regard to three aspects of the grants programs: (1) The availability of the information requested, (2) the clarity of the instructions, and (3) the annual burden hours for preparing applications and other materials, such as annual and final reports. All respondents advised that the application instructions are readily available for organizations in the United States. One respondent indicated that some smaller organizations in Latin America and the Caribbean might have difficulty finding the information. Similarly, respondents found the clarity of the information/instructions to be good, while some smaller organizations outside the United States might require assistance. One respondent indicated that the Grant Administration Guidelines, provided to successful grant recipients, are complex and sometimes difficult to interpret.

Respondents report that, on average, proposal preparation requires about 70 hours and report preparation averaged about 30 hours, yielding an average annual burden of about 100 hours for a successful recipient of grant funds. We therefore consider our original estimate of 40 hours for proposal preparation only to be low. Pending further refinement from responses to this notice, we may further revise our estimate of the total annual burden hours.

We invite your comments on: (1) Whether or not the collection of information is necessary for the proper performance of the NMBCA grants programs, including whether or not in the opinion of the respondent the information has practical utility; (2) the accuracy of our estimate of the annual hour burden of information requested; (3) ways to enhance the quality, utility and clarity of the information to be collected; and (4) ways to minimize the burden of the collection of information on respondents.

Dated: June 30, 2005.
Hope Grey,
Information Collection Clearance Officer, Fish and Wildlife Service.

[FR Doc. 05-15021 Filed 7-28-05; 8:45 am]

BILLING CODE 4310-55-P